DEPARTMENT OF ENERGY

Office of Environmental Management

Notice of Preferred Sodium Bearing Waste Treatment Technology

AGENCY: Office of Environmental Management, U.S. Department of Energy.

ACTION: Notice of Preferred Sodium Bearing Waste Treatment Technology.

SUMMARY: In October 2002, the U.S. Department of Energy (DOE or the Department) issued the Final Idaho High-Level Waste (HLW) and Facilities Disposition Environmental Impact Statement (DOE/EIS-0287 (Final EIS)). The Final EIS contains an evaluation of reasonable alternatives for the management of mixed transuranic waste/sodium bearing waste (SBW),¹ mixed HLW calcine, and associated low-level waste (LLW), as well as disposition alternatives for HLW facilities when their missions are completed. DOE's preferred alternative in the Final EIS for SBW waste processing was to implement the proposed action by selecting from among the action alternatives, options, and technologies analyzed in the Final EIS, and to construct facilities necessary to prepare the SBW located at the Idaho Nuclear Technology and Engineering Center (INTEC) for the preferred disposition path to the Waste Isolation Pilot Plant (WIPP). In the Final EIS DOE did not identify a preferred treatment technology for SBW from among the several technology options evaluated.

¹ The Final EIS refers to SBW as mixed transuranic waste/SBW. However, a determination that SBW is transuranic waste has not been made.

The Department is now announcing that the Non Separations Alternative, Steam Reforming Option, as analyzed in the Final EIS and its associated Supplement Analysis (SA), DOE/ EIS-0287-SA-01, June 2005, is DOE's preferred treatment technology for the SBW. DOE plans a phased decision-making process and will issue its first Record of Decision (ROD) focusing on SBW treatment and facilities disposition no sooner than 30-days from the date of this Notice. A subsequent ROD addressing Tank Farm Facility Closure will be issued in coordination with the Secretary of Energy's determination pursuant to Section 3116 of the Ronald W. Reagan National Defense Authorization Act (NDAA) for Fiscal Year 2005, Public Law 108-375. A future ROD for HLW calcine disposition is scheduled for issuance in 2009.

FOR FURTHER INFORMATION CONTACT: Requests for further information on the preferred technology should be addressed to: Richard Kimmel, Document Manager, U.S. Department of Energy, Idaho Operations Office, 1955 North Fremont, MS-1222, Idaho Falls, Idaho, 83415, Telephone (208) 526-5583, or via email at Richard.Kimmel@nuclear.energy.gov. Any comments on the preferred technology should be submitted to Mr. Kimmel no later than 30-days from the date of publication of this notice. The Final EIS and SA are available on the Internet at http://www.id.doe.gov/ and http://www.eh.doe.gov/nepa/.html.

For further information on DOE's National Environmental Policy Act (NEPA) process, please contact: Carol M. Borgstrom, Director, Office of NEPA Policy and Compliance (EH-42), U.S. Department of Energy, 1000 Independence Avenue, SW., Washington, DC 20585, Telephone: (202) 586-4600, or leave a message at (800) 472-2756.

SUPPLEMENTARY INFORMATION:

Background

SBW is a liquid mixed radioactive waste (contains hazardous and radioactive constituents) produced primarily from INTEC decontamination and cleanup activities. SBW also includes approximately one percent (by volume) commingled 1st cycle reprocessing waste, approximately two percent 2nd cycle reprocessing waste, and approximately four percent 3rd cycle reprocessing waste. SBW contains large quantities of sodium and potassium nitrates; however, the radionuclide concentrations for liquid SBW are generally ten to 1,000 times less than for liquid HLW.

In 1992, DOE entered into a Notice of Noncompliance Consent Order with the State of Idaho Department of Environmental Quality and the Environmental Protection Agency that requires DOE to cease use of the tanks in which the SBW is stored by December 31, 2012.

In 1995, DOE and the State of Idaho entered into a settlement agreement that resolved litigation and that established dates for the treatment of approximately 900,000 gallons of liquid SBW stored at INTEC.

In September 1997, DOE published a Notice of Intent to complete an EIS in accordance with NEPA. In September 1998, the State of Idaho became a cooperating agency in the development of the EIS.

In January 2000, DOE issued the Draft Idaho High-Level Waste and Facilities Disposition EIS (Draft EIS). Subsequently, DOE and the State of Idaho evaluated approximately 1,000 comments received on that document. The Final EIS was issued in October 2002 and reflects changes to the Draft EIS based on public comments, further review by DOE and the State of Idaho, and incorporation of the DOE and State of Idaho preferred alternatives.

The Department's preferred alternative identified in the Final EIS was to implement the proposed action, which consists of five elements to meet the purpose and need for agency action: (1) Select appropriate technologies and construct facilities necessary to prepare INTEC SBW for shipment to WIPP, the preferred disposition path, (2) prepare the HLW calcine to allow disposal in a repository, (3) treat and dispose of associated radioactive wastes, (4) provide safe storage of HLW destined for a repository, and (5) disposition INTEC HLW management facilities when their missions are completed. Alternatives/Options not included in DOE's Preferred Alternative are: the No Action Alternative, storage of calcine in the bin sets for an indefinite period under the Continued Current Operations Alternative, the shipment of calcine to the Hanford Site for treatment under the Minimum Idaho National Engineering and Environmental Laboratory (INEEL) Processing Alternative, and disposal of mixed LLW on the INEEL under any alternative. The INEEL is now known as the Idaho National Laboratory. The State of Idaho, as a cooperating agency, identified the Direct Vitrification Alternative for SBW and vitrification with or without separations of the HLW calcine as their preferred waste-processing alternatives. The Final EIS did not identify a DOE preferred treatment technology from among the several technology options evaluated for treatment of the SBW.

DOE conducted four workshops to inform the public about the five technologies that the DOE was considering for treatment of the SBW with the preferred disposition at WIPP. The five technologies were Direct Vitrification, Cesium Ion Exchange with a grout waste form, Calcination with Maximum Achievable Control Technology upgrades, Direct Evaporation, and Steam Reforming. DOE issued a Federal Register notice on March 10, 2003, 68 FR 11388, announcing the public workshops. Workshops were held between March 13-April 28, 2003, in Jackson, Wyoming, and Idaho Falls, Twin Falls, and Fort Hall, Idaho. In addition, briefings were held with individual stakeholders through June 2003. The public was given the opportunity to provide comments on all technologies presented through August 31, 2003, via e-mail or regular mail. Though the focus of the comment period was for SBW treatment, the nature of the comments received also included HLW calcine and closure of HLW facilities. DOE considered those comments, which addressed the following issues: Potential environmental impacts from waste processing operations, technical viability, uncertainties related to regulatory requirements and permits, public or agency acceptance, vitrification, cost, transportation of waste for disposal, waste form stability, and plan and schedule for cleanup activities. These comments did not raise any new issues that were not expressed during the comment period on the Draft EIS. DOE and the State of Idaho responses to these issues are in the Final EIS, Chapter 11.

During the workshops and briefings, DOE informed the public that the DOE's strategy was to select one of the five technologies for treatment of the SBW. Subsequently, DOE changed this strategy by incorporating the requirement for a contractor to propose a treatment technology for SBW in a draft Request for Proposals (RFP) for the Idaho Cleanup Project (ICP) contract to complete the Environmental Management accelerated cleanup mission. At public meetings of the Idaho Environmental Management Citizens Advisory Board, public meetings conducted by the National Academy of Sciences in Idaho, and other meetings with local stakeholders, DOE informed the public of the change in strategy and that the DOE would identify a preferred treatment technology for SBW after the contract was awarded. At these meetings, DOE also informed the public that they would have an opportunity to provide comments on the draft RFP.

DOE issued the draft RFP for the ICP contract for comment in February 2004. The draft RFP required bidders to propose technologies for treating SBW for disposal at WIPP and an alternative technical approach to prepare this waste for disposal as HLW in the geologic repository for HLW and spent nuclear fuel if this waste could not be disposed of at WIPP. DOE responded to comments received on the draft RFP and issued the final RFP in July 2004. The ICP contract was awarded on March 23, 2005. The ICP contractor proposed Steam Reforming as the treatment technology for SBW. Under the contract DOE would have to fulfill its NEPA requirements before authorizing action to treat SBW.

Preferred Treatment Technology

DOE has identified Steam Reforming as its preferred treatment technology for SBW after considering technical maturity, the regulatory schedule for treatment of the SBW, and the environmental impacts presented in the Final EIS. The central feature of the Steam Reforming process is the reformer, a fluidized bed reactor in which steam is used as the fluidizing gas and a refractory oxide material is used as the bed medium. An organic reductant and other additives are also fed to the bed to enhance denitration. Water in the waste is vaporized to superheated steam, while organic compounds in the waste are broken down through thermal processes and reaction with hot nitrates, steam, and oxygen. A solid, remote-handled waste consisting of primarily inorganic salts is produced. The solids are packaged for disposal. This technology supports the Department's objective to treat SBW in a manner such that it would be ready for shipment out of Idaho, by December 31, 2012, in accordance with the Environmental Management Performance Management Plan for Accelerating Cleanup of the INEEL, DOE/ID-11006, August 2002.

DOE prepared a SA in accordance with DOE NEPA regulations (10 CFR 1021.314) to determine whether there are substantial changes to the scope of the proposed action identified in the Final EIS or significant new circumstances or information relevant to environmental concerns within the meaning of CEQ NEPA regulations [40 CFR 1502.9(c)(1)] that would require preparation of a supplemental EIS. The SA contains DOE's evaluation of new information (e.g., updated waste characterization data) and revised methodologies (e.g., for estimating cancer risk). Based on the SA, DOE determined that a supplemental EIS is not required.

DOE plans a phased decision-making process and will issue its first ROD focusing on SBW treatment and facilities disposition no sooner than 30-days from the date of this Notice. DOE will consider any comments received before issuing this ROD.

A subsequent ROD addressing Tank Farm Facility Closure will be issued in coordination with the Secretary of Energy's determination pursuant to Section 3116 of the Ronald W. Reagan NDAA for Fiscal Year 2005, Public Law 108-375. A future ROD for HLW calcine disposition is scheduled for issuance in 2009.

Issued in Washington, DC, July 26, 2005.
Charles E. Anderson,
Principal Deputy Assistant Secretary for Environmental Management.

[FR Doc. 05-15293 Filed 8-2-05; 8:45 am]

BILLING CODE 6450-01-P